DEPARTMENT OF TRANSPORTATION

Surface Transportation Board

[STB Finance Docket No. 34039]

The West Tennessee Railroad, LLC—Lease and Operation Exemption—Norfolk Southern Railway Company

The West Tennessee Railroad, LLC (WTNN), a New Jersey limited liability company, has filed a verified notice of exemption under 49 CFR 1150.31 to lease and operate, pursuant to an agreement entered into with Norfolk Southern Railway Company (NSR), approximately 140.1 miles of rail line. The subject line runs from milepost IC-406.1 at Fulton, KY, to milepost IC-525.0, one mile north of Ruslor Junction (Corinth), MS. The transaction includes the Bemis to Poplar Corner, TN branch line from milepost GW-0.0 to GW-15.0, the Jackson, TN connection track from milepost GH-0.0 to GH-2.2, and the Lawrence and Carroll, TN branch line from milepost MM-388.5 to MM-394.5, as well as all associated tracks and spurs. WTNN will also acquire trackage rights between milepost IC-525.0 and NSR's connection with The Kansas City Southern Railway Company at milepost IC-526.0 in Corinth.¹

¹ WTNN certifies that its projected annual revenues will not exceed those that would qualify it as a Class III carrier.

The transaction was scheduled to be consummated on or after August 1, 2001.

This transaction is related to STB Finance Docket No. 34073, Henry G. Hohorst, Bruce Hohorst, and Anthony M. Linn—Continuance in Control Exemption—The West Tennessee Railroad, LLC, wherein Henry G. Hohorst, Bruce Hohorst, and Anthony M. Linn have concurrently filed a notice of exemption to continue in control of WTNN upon its succeeding to the interests of a predecessor entity, West Tennessee Railroad Corp., and its leasing and operating the subject line.

If this notice contains false or misleading information, the exemption is void ab initio. Petitions to revoke the exemption under 49 U.S.C. 10502(d) may be filed at any time. The filing of a petition to revoke will not automatically stay the transaction.

An original and 10 copies of all pleadings, referring to STB Finance Docket No. 34039, must be filed with the Surface Transportation Board, Office of the Secretary, Case Control Unit, 1925 K Street, NW., Washington, DC 20423-0001. In addition, a copy of each pleading must be served on John F. McHugh, McHugh & Barnes, P.C., 20 Exchange Place, New York, NY 10005.

Board decisions and notices are available on our website at “WWW.STB.DOT.GOV.”

Decided: August 9, 2001.
By the Board, David M. Konschnik, Director, Office of Proceedings.
Vernon A. Williams,
Secretary.

[FR Doc. 01-20512 Filed 8-16-01; 8:45 am]

BILLING CODE 4915-00-P